DEPARTMENT OF AGRICULTURE

Natural Resources Conservation Service

Task Force on Agricultural Air Quality

AGENCY: Natural Resources Conservation Service, USDA.

ACTION: Notice of meeting.

SUMMARY: The Agricultural Air Quality Task Force will meet to continue discussions on critical air quality issues in relation to agriculture. Special emphasis will be placed on obtaining a greater understanding about the relationship between agricultural production and air quality. The meeting is open to the public; a draft agenda of the meeting is attached.

DATES: The meeting will convene Wednesday, December 3, 2003, at 8 a.m., and continue until 5 p.m.; resume Thursday, December 4, 2003, from 8:15 a.m. to 4:30 p.m. Individuals with written materials, and those who have requests to make oral presentations, should contact the Natural Resources Conservation Service (NRCS), at the address below, on or before November 18, 2003.

ADDRESSES: The meeting will be held at the Doubletree Hotel, Two Portola Plaza, Monterey, California 93940; telephone: (831) 649-4511. Written material and requests to make oral presentations should be sent to Dr. Beth Sauerhaft, USDA-NRCS, Post Office Box 2890, Room 6158, Washington, DC 20013.

FOR FURTHER INFORMATION CONTACT: Questions or comments should be directed to Dr. Beth Sauerhaft, Designated Federal Official; telephone: (202) 720-8578; fax: (202) 720-2646; e-mail: Beth.Sauerhaft@usda.gov.

SUPPLEMENTARY INFORMATION: Notice of this meeting is given under the Federal Advisory Committee Act, 5 U.S.C. App. 2. Additional information about the AAQTF, including any revised agendas for the December 3 and 4, 2003, meeting that occur after this Federal Register notice is published, may be found on the World Wide Web at http://fargo.nserl.purdue.edu/faca.

Draft Agenda of the December 3 and 4, 2003, Meeting of the AAQTF

A. Welcome to California

• Local and NRCS officials

B. Discussion of August minutes

C. Presentation/Discussion of Documents to Be Approved by Conclusion of Meeting and Subsequently Presented to Secretary Veneman

D. Subcommittee Presentations

• Emerging Issues Committee Report

• Research Committee Report

• Policy Committee Report

• Education/Technology Transfer Committee Report

E. Local Research Presentations

• University of California (UC), Davis—Field Research

• UC Davis, Nitrogen Balance

• Alternatives to Methyl Bromide

F. Dairy Action Plan

G. Presentation of Collaborative Efforts between NRCS and Local Air District

H. Presentation of South Coast Anaerobic Digester Project

I. Environmental Protection Agency Update

J. Pesticide Volatile Organic Compounds

K. Diesel Air Toxic Control Measures

L. Next Meeting, Time/Place

M. Public Input (Time will be reserved before lunch and at the close of each daily session to receive public comment. Individual presentations will be limited to 5 minutes).

Procedural

This meeting is open to the public. At the discretion of the Chair, members of the public may give oral presentations during the meeting. Persons wishing to make oral presentations should notify Dr. Sauerhaft no later than November 18, 2003. If a person submitting material would like a copy distributed to each member of the committee in advance of the meeting, that person should submit 30 copies to Beth Sauerhaft no later than November 14, 2003.

Information on Services for Individuals With Disabilities

For information on facilities or services for individuals with disabilities, or to request special assistance at the meeting, contact Dr. Sauerhaft.

USDA prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). The USDA is an equal opportunity provider and employer.

Signed in Washington, DC on November 5, 2003.
Bruce I. Knight,
Chief, Natural Resources Conservation Service.

[FR Doc. 03-28967 Filed 11-19-03; 8:45 am]

BILLING CODE 3410-16-P